DEPARTMENT OF HOMELAND SECURITY

U.S. Customs and Border Protection

Modification of the National Customs Automation Program (NCAP) Test Concerning the Automated Commercial Environment (ACE) Portal Accounts To Establish the Protest Filer Account and Clarification That the Terms and Conditions for Account Access Apply to All ACE Portal Accounts

AGENCY: U.S. Customs and Border Protection, Department of Homeland Security.

ACTION: General notice.

SUMMARY: This document announces U.S. Customs and Border Protection's (CBP's) plan to modify the National Customs Automation Program (NCAP) test concerning Automated Commercial Environment (ACE) Portal Accounts to establish the ACE Protest Filer Account. After CBP deploys the ACE Protest Module test at a later date, participants with an ACE Protest Filer Account will be able to file an electronic protest in ACE. This document also clarifies that CBP's previously published terms and conditions governing access to and use of the NCAP test of ACE Portal Accounts apply to all ACE Portal Accounts, including all ACE Portal Account types created after the previously published terms and conditions. All other aspects of the ACE Portal Accounts Test remain the same as set forth in previously published Federal Register notices.

DATES: The modifications and clarifications of the ACE Portal Account Test made by this notice are effective on August 8, 2016.

The clarification to the terms and conditions applies to all ACE Portal Accounts regardless of when the account was created.

ADDRESSES: Comments concerning this notice and any aspect of the modified ACE Portal Account Test may be submitted at any time during the testing period via email to Josephine Baiamonte, ACE Business Office (ABO), Office of Trade at josephine.baiamonte@cbp.dhs.gov. In the subject line of your email, please indicate, “Comment on ACE Portal Account Test FRN”.

FOR FURTHER INFORMATION CONTACT: For technical questions related to the application or requests for an ACE Portal Account, including ACE Protest Filer Accounts, contact the ACE Account Service Desk by calling 1-866-530-4172, selecting option 1, then option 2, or by emailing ACE.Support@cbp.dhs.gov for assistance.

SUPPLEMENTARY INFORMATION:

I. Automated Commercial Environment (ACE)

A. The National Customs Automation Program

The National Customs Automation Program (NCAP) was established by Subtitle B of Title VI—Customs Modernization in the North American Free Trade Agreement (NAFTA) Implementation Act (Customs Modernization Act) (Pub. L. 103-182, 107 Stat. 2057, 2170, December 8, 1993) (19 U.S.C. 1411). Through NCAP, the thrust of customs modernization was on trade compliance and the development of ACE, the planned successor to the Automated Commercial System (ACS). ACE is an automated and electronic system for commercial trade processing which is intended to streamline business processes, facilitate growth in trade, ensure cargo security, and foster participation in global commerce, while ensuring compliance with U.S. laws and regulations and reducing costs for CBP and all of its communities of interest. The ability to meet these objectives depends on successfully modernizing CBP's business functions and the information technology that supports those functions. CBP's modernization efforts are accomplished through phased releases of ACE component functionality designed to replace specific legacy ACS functions and add new functionality.

The procedures and criteria applicable to participation in the ACE Portal Account Test remain in effect unless otherwise explicitly changed by this notice.

B. ACE Portal Accounts

On May 1, 2002, the former U.S. Customs Service, now CBP, published a general notice in the Federal Register (67 FR 21800) announcing a plan to conduct an NCAP test of the first phase of ACE. The test was described as the first step toward the full electronic processing of commercial importations with a focus on defining and establishing an importer's account structure. That general notice announced that importers and authorized parties would be allowed to access their customs data via an Internet-based Portal Account. The notice also set forth eligibility criteria for companies interested in establishing ACE Portal Accounts.

Subsequent general notices expanded the types of ACE Portal Accounts. On February 4, 2004, CBP published a general notice in the Federal Register (69 FR 5360) that established ACE Truck Carrier Accounts. On September 8, 2004, CBP published a general notice in the Federal Register (69 FR 54302) inviting customs brokers to participate in the ACE Portal Account Test generally and informing interested parties that once they had been notified by CBP that their request to participate in the ACE Portal Account Test had been accepted, they would be asked to sign and submit a “Terms and Conditions” document. CBP subsequently contacted those participants and asked them to also sign and submit an ACE Power of Attorney form and an Additional Account/Account Owner Information form. On October 18, 2007, CBP published a general notice in the Federal Register (72 FR 59105) announcing the expansion of the ACE Portal Account Test to include the additional following ACE account types: Carriers (all modes: Air, rail, sea); Cartman; Lighterman; Driver/Crew; Facility Operator; Filer; Foreign Trade Zone (FTZ) Operator; Service Provider; and Surety. More recently, on October 21, 2015, CBP published a general notice in the Federal Register (80 FR 63817) announcing the creation of the Exporter Portal Account.

C. Terms and Conditions for Access to the ACE Portal Account

On May 16, 2007, CBP published a general notice in the Federal Register (72 FR 27632) announcing changes to the terms and conditions that must be followed as a condition for access to the ACE Portal Account and announcing that the terms and conditions in that notice superseded and replaced the “Terms and Conditions” document previously signed and submitted to CBP by all ACE Portal Account Owners. The principal changes to the ACE “Terms and Conditions” included a revised definition of “Account Owner” to permit either an individual or a legal entity to serve in this capacity, new requirements relating to providing notice to CBP when there has been a material change in the status of the Account and/or Account Owner, and explanatory provisions as to how the information from a particular account may be accessed through the ACE Portal when that account is transferred to a new owner. Prior to the publication of the May 16, 2007 Notice, all parties wishing to establish an ACE Portal Account had to sign and submit to CBP a “Terms and Conditions” document prior to accessing the ACE Portal. The “Terms and Conditions” document set forth the obligations and responsibilities of all parties establishing and accessing an ACE Portal Account. Because the “Terms and Conditions” document that all ACE Portal Accounts had to execute was standard and identical, and due to the burden on the trade to sign and submit the document to CBP and on CBP to track and maintain the documents submitted, CBP decided to replace the “Terms and Conditions” document and instead publish the terms and conditions in the May 16, 2007 Notice. That notice made the terms and conditions therein applicable to all ACE Portal Accounts. The terms and conditions published in that notice superseded, replaced and rendered null and void all previously signed and submitted “Terms and Conditions” documents. The terms and conditions set forth in the notice also appear on the introductory screen for the ACE Portal and must be accepted by any party seeking access to an ACE Portal Account.

On July 7, 2008, CBP published a general notice in the Federal Register (73 FR 38464) which revised the terms and conditions set forth in the May 16, 2007 Notice regarding the period of Portal inactivity which will result in termination of ACE Portal Account access for the inactive user. The July 7, 2008 Notice provided that if forty-five (45) consecutive days elapse without an Account Owner, Proxy Account Owner, or an Account User accessing the ACE Portal Account, access to the ACE Portal Account will be terminated. The time period for allowable ACE Portal Account inactivity was previously ninety (90) days.

The failure of a Proxy Account Owner or an Account User to access the ACE Portal for a period of forty-five (45) days consecutively will result in the termination of access to the ACE Portal for the Proxy Account Owner or Account User. Inactivity will not result in termination of the ACE Portal Account, but will terminate ACE Portal Account access for the inactive user. Access may be restored by calling the Help Desk or by following the “forgot your password” prompt found on the ACE Portal log-in page. Access may only be restored upon re-authorization by the Account Owner.

D. ACE Non-Portal Accounts

CBP has also permitted certain parties to participate in ACE without establishing ACE Portal Accounts, i.e., “Non-Portal Accounts”. On October 24, 2005, CBP published a general notice in the Federal Register (70 FR 61466) announcing that CBP would no longer require importers to establish ACE Portal Accounts in order to deposit estimated duties and fees as a part of a Periodic Monthly Statement (PMS). CBP decided it would only require importers to establish a Non-Portal Account to participate in PMS.

On March 29, 2006, CBP published another general notice in the Federal Register (71 FR 15756) announcing that truck carriers who do not have ACE Portal Accounts may use third parties to transmit truck manifest information on their behalf electronically in the ACE Truck Manifest system via Electronic Data Interface (EDI) messaging. Truck carriers who elect to use this transmission method will not have access to operating data and will not receive status messages on ACE transactions, nor will they have access to integrated ACE Portal Account data from multiple system sources.

II. Protest

Pursuant to 19 U.S.C. 1514, certain parties may file a protest to challenge a CBP decision regarding the classification, appraisement, rate and amount of duties chargeable, certain charges and exactions, the exclusion of merchandise, the liquidation of an entry, and the refusal to pay a claim for drawback, within 180 days of the date of liquidation, i.e., the date on which CBP's decision becomes final. The CBP regulations implementing the protest statute are codified in part 174 of title 19 of the Code of Federal Regulations (19 CFR 174).

Parties authorized to file a protest include importers or consignees for an entry, or their sureties; persons paying any charge or exaction; persons seeking entry or delivery; persons filing a claim for drawback; exporters or producers of the merchandise subject to a determination of origin under section 202 of the NAFTA Implementation Act, if the exporter or producer completed and signed a NAFTA Certificate of Origin covering the merchandise; or the authorized agent of any of these persons. See 19 CFR 174.12(a). When a protest is filed by a person acting as an agent for the principal that agent must have a power of attorney that grants authority to the agent to make, sign and file a protest on behalf of the protesting party in accordance with 19 CFR 174.3.

III. Authorization for the ACE Portal Account Test

The Customs Modernization Act authorizes the Commissioner of CBP to conduct limited test programs or procedures designed to evaluate planned components of the NCAP. The ACE Portal Account Test, as modified in this notice, is authorized pursuant to 19 CFR 101.9(b), which provides for the testing of NCAP programs or procedures. See Treasury Decision (T.D.) 95-21.

IV. Modification of the ACE Portal Account Test

A. Protest Filer Account

This document announces the modification of the ACE Portal Account Test to establish the Protest Filer Account. CBP will conduct a test of the ACE Protest Module functionality at a later date in which a party with an established Protest Filer Account will be able to submit an electronic protest to ACE for processing by CBP. CBP anticipates publishing a subsequent notice in the Federal Register to announce initiation of the ACE Protest Module test.

The owner of an ACE Protest Filer Account will have the ability to create and maintain through the ACE Portal information regarding the name, address, and contact information for the corporate and individual account owner for the Protest Filer Account. Protest filers will use the existing account structure established for other accounts within the ACE Portal.

New ACE users without an existing Portal Account will be required to apply to establish a new ACE Protest Filer Account, as explained in Section B.1 below. An application to establish an ACE Protest Filer Account by new ACE users requires the account owner to provide information required to complete the account setup process. Existing ACE Portal Account owners should follow instructions in Section B.2 below. Current ACE account holders must request a protest filer account view within their existing Portal Account to access the ACE Protest Module functions.

ACE Portal Account Test participants must agree to the previously published “Terms and Conditions for Account Access of the Automated Commercial Environment (ACE) Portal,” as clarified by this notice. See 72 FR 27632 (May 16, 2007) and 73 FR 38464 (July 7, 2008). New ACE users will be prompted to accept these Terms and Conditions during the application process. Upon completion of the application process, the applicant will receive an email message and be prompted to log in with the protest filer's username and password which will create the ACE Protest Filer Account. Once an account is created, the protest filer will be provided with “protest filer view” from the protest filer home page.

B. Establishing a Protest Filer Account

1. New ACE Portal Account Owner

Parties who do not have an ACE Portal Account may apply for a Protest Filer Account according to the instructions online at: http://www.cbp.gov/trade/automated/getting-started/using-ace-secure-data-portal. Applicants will be required to complete an on-line application and provide the “Organization Information” and “ACE Account Owner” information listed below and certify that the applicant has read and agrees to the Terms and Conditions. The account validation process will begin once all steps have been completed.

Organization Information:

(1) Protest Filer Number (Employer Identification Number, Social Security Number, or CBP Assigned Number)

(2) Organization Name

(3) Organization Type

(4) End of Fiscal Year (month and day)

(5) Mailing Address

ACE Account Owner:

(1) Name

(2) Date of Birth

(3) Email Address

(4) Telephone Number

(5) Fax Number (optional)

Once the applicant completes and submits the Protest Filer Account application, the applicant will receive an email message to confirm submission of the application and direct the applicant how to log on to ACE to complete the account. Applicants who have not received an email message within 24 hours should contact the ACE Account Service Desk. The “Application to Use the Automated Commercial Environment” is an approved information collection under OMB control number 1651-0105. Comments are currently being accepted concerning the renewal of this information collection. See 81 FR 38727 (June 14, 2016).

2. Existing ACE Portal Account Owners

Parties that have an existing ACE Portal Account may request a Protest Filer Account through their established ACE Portal Account. A Protest Filer Account may be created under existing accounts by navigating to the Protest Filer view under the Accounts tab of the ACE Portal (available in all existing ACE Portal Accounts), selecting Create a Protest Filer, and following the step by step guided creation process to complete the account set up. Additional training materials on general account maintenance are available at https://www.cbp.gov/trade/ace/training-and-reference-guides. For additional assistance on ACE Accounts, contact the ACE Service Desk.

V. Clarification of the ACE Portal Account Test

At the time CBP published the May 16, 2007 Notice setting forth the terms and conditions governing the administration, access, and use of ACE Portal Accounts and the responsibilities and obligations applicable to all parties accessing ACE Portal Accounts, there were three types of ACE Portal Accounts: Importer; broker; and carrier. Subsequently, CBP created additional account types, such as the surety, foreign trade zone operator, and exporter accounts, and as established by this notice, the Protest Filer Account. This notice clarifies that the terms and conditions that CBP has published governing ACE Portal Account access and use, and any modifications thereof that CBP publishes, apply to all ACE Portal Accounts and account types regardless of when the account was established or the account type created. All other aspects of the ACE Portal Accounts Test remain the same as set forth in previously published Federal Register notices.

VI. Comments

All interested parties are invited to comment on any aspect of this modification and clarification of the ACE Portal Account Test for the duration of the test. CBP requests comments and feedback on all aspects of this test and this clarification in order to determine whether to modify, alter, expand, limit, continue, end, or fully implement this test.

VII. Misconduct Under the Test

A test participant may be subject to civil and criminal penalties, administrative sanctions, liquidated damages, or discontinuance from participation in the ACE Portal Account Test, as modified by this notice, for any of the following:

(1) Failure to follow the terms and conditions of this test;

(2) Failure to exercise reasonable care in the execution of participant obligations;

(3) Failure to abide by applicable laws and regulations that have not been waived; or

(4) Failure to deposit duties, taxes or fees in a timely manner.

If the Director, Business Transformation Division, ACE Business Office (ABO), Office of Trade, finds that there is a basis for discontinuance of test participation privileges, the test participant will be provided a written notice proposing the discontinuance with a description of the facts or conduct warranting the action. The test participant will be offered the opportunity to appeal the Director's decision in writing within 10 calendar days of receipt of the written notice. The appeal must be submitted to the Executive Director, ABO, Office of Trade, by emailing Deborah.Augustin@cbp.dhs.gov.

The Executive Director will issue a decision in writing on the proposed action within 30 working days after receiving a timely filed appeal from the test participant. If no timely appeal is received, the proposed notice becomes the final decision of the Agency as of the date that the appeal period expires. A proposed discontinuance of a test participant's privileges will not take effect unless the appeal process under this paragraph has been concluded with a written decision adverse to the test participant.

In the case of willfulness or those in which public health, interest, or safety so requires, the Director, Business Transformation Division, ABO, Office of Trade, may immediately discontinue the test participant's privileges upon written notice to the test participant. The notice will contain a description of the facts or conduct warranting the immediate action. The test participant will be offered the opportunity to appeal the Director's decision within 10 calendar days of receipt of the written notice providing for immediate discontinuance. The appeal must be submitted to the Executive Director, ABO, Office of Trade, by emailing Deborah.Augustin@cbp.dhs.gov. The immediate discontinuance will remain in effect during the appeal period. The Executive Director will issue a decision in writing on the discontinuance within 15 working days after receiving a timely filed appeal from the test participant. If no timely appeal is received, the notice becomes the final decision of the Agency as of the date that the appeal period expires.

VIII. Development of ACE Prototypes

A chronological listing of Federal Register publications detailing ACE test developments is set forth below.

• ACE Portal Accounts and Subsequent Revision Notices: 67 FR 21800 (May 1, 2002); 69 FR 5360 and 69 FR 5362 (February 4, 2004); 69 FR 54302 (September 8, 2004); 70 FR 5199 (February 1, 2005).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Tests Concerning Automated Commercial Environment (ACE) Simplified Entry: Modification of Participant Selection Criteria and Application Process: 77 FR 48527 (August 14, 2012).

• Modification of National Customs Automation Program (NCAP) Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE): 78 FR 44142 (July 23, 2013).

• Modification of Two National Customs Automation Program (NCAP) Tests Concerning Automated Commercial Environment (ACE) Document Image System (DIS) and Simplified Entry (SE); Correction: 78 FR 53466 (August 29, 2013).

• Modification of National Customs Automation Program Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release to Allow Importers and Brokers to Certify From ACE Entry Summary: 79 FR 24744 (May 1, 2014).

• Modification of National Customs Automation Program (NCAP) Test Concerning Automated Commercial Environment (ACE) Cargo Release for Truck Carriers: 79 FR 25142 (May 2, 2014).

• Modification of National Customs Automation Program (NCAP) Test Concerning Automated Commercial Environment (ACE) Document Image System: 79 FR 36083 (June 25, 2014).

• Announcement of eBond Test: 79 FR 70881 (November 28, 2014).

• eBond Test Modifications and Clarifications: Continuous Bond Executed Prior to or Outside the eBond Test May Be Converted to an eBond by the Surety and Principal, Termination of an eBond by Filing Identification Number, and Email Address Correction: 80 FR 899 (January 7, 2015).

• Modification of National Customs Automation Program (NCAP) Test Concerning Automated Commercial Environment (ACE) Document Image System Relating to Animal and Plant Health Inspection Service (APHIS) Document Submissions: 80 FR 5126 (January 30, 2015).

• Modification of National Customs Automation Program (NCAP) Test Concerning the use of Partner Government Agency Message Set through the Automated Commercial Environment (ACE) for the Submission of Certain Data Required by the Environmental Protection Agency (EPA): 80 FR 6098 (February 4, 2015).

• Announcement of Modification of ACE Cargo Release Test to Permit the Combined Filing of Cargo Release and Importer Security Filing (ISF) Data: 80 FR 7487 (February 10, 2015).

• Modification of National Customs Automation Program (NCAP) Test Concerning ACE Cargo Release for Type 03 Entries and Advanced Capabilities for Truck Carriers: 80 FR 16414 (March 27, 2015).

• Automated Commercial Environment (ACE) Export Manifest for Air Cargo Test: 80 FR 39790 (July 10, 2015).

• National Customs Automation Program (NCAP) Concerning Remote Location Filing Entry Procedures in the Automated Commercial Environment (ACE) and the Use of the Document Image System for the Submission of Invoices and the Use of eBonds for the Transmission of Single Transaction Bonds: 80 FR 40079 (July 13, 2015).

• Modification of National Customs Automation Program (NCAP) Test Concerning the Automated Commercial Environment (ACE) Partner Government Agency (PGA) Message Set Regarding Types of Transportation Modes and Certain Data Required by the National Highway Traffic Safety Administration (NHTSA): 80 FR 47938 (August 10, 2015).

• Automated Commercial Environment (ACE) Export Manifest for Vessel Cargo Test: 80 FR 50644 (August 20, 2015).

• Modification of National Customs Automation Program (NCAP) Test Concerning the Submission of Certain Data Required by the Food and Drug Administration (FDA) Using the Partner Government Agency Message Set through the Automated Commercial Environment (ACE): 80 FR 52051 (August 27, 2015).

• Automated Commercial Environment (ACE) Export Manifest for Rail Cargo Test: 80 FR 54305 (September 9, 2015).

• International Trade Data System Test Concerning the Electronic Submission to the Automated Commercial Environment of Data Using the Partner Government Agency Message Set: 80 FR 59721 (October 2, 2015).

• Modification of the National Customs Automation Program (NCAP) Test Concerning the Automated Commercial Environment (ACE) Document Image System (DIS) Regarding Future Updates and New Method of Submission of Accepted Documents: 80 FR 62082 (October 15, 2015).

• Modification of the National Customs Automation Program (NCAP) Test Concerning the Automated Commercial Environment (ACE) Cargo Release for Entry Type 52 and Certain Other Modes of Transportation: 80 FR 63576 (October 20, 2015).

• Modification of the National Customs Automation Program (NCAP) Test Concerning the Automated Commercial Environment (ACE) Entry Summary, Accounts and Revenue (ESAR) Test of Automated Entry Summary Types 51 and 52 and Certain Modes of Transportation: 80 FR 63815 (October 21, 2015).

• Modification of the National Customs Automation Program Test Concerning the Automated Commercial Environment Portal Account to Establish the Exporter Portal Account: 80 FR 63817 (October 21, 2015).

• Modification of National Customs Automation Program (NCAP) Test Concerning the Automated Commercial Environment (ACE) Partner Government Agency (PGA) Message Set Regarding the Toxic Substances Control Act (TSCA) Certification Required by the Environmental Protection Agency (EPA): 81 FR 7133 (February 10, 2016).

• Notice Announcing the Automated Commercial Environment (ACE) as the Sole CBP-Authorized Electronic Data Interchange (EDI) System for Processing Certain Electronic Entry and Entry Summary Filings: 81 FR 10264 (February 29, 2016).

• Modification of the National Customs Automation Program (NCAP); Test Concerning the Partner Government Agency Message Set for Certain Data Required by the Environmental Protection Agency (EPA): 81 FR 13399 (March 14, 2016).

• Cessation of National Customs Automation Program (NCAP) Test Concerning the Submission of Certain Data Required by the Food and Drug Administration (FDA) Using the Partner Government Agency (PGA) Message Set Through the Automated Commercial Environment (ACE): 81 FR 18634 (March 31, 2016).

• Automated Commercial Environment (ACE); Announcement of National Customs Automation Program Test of the In-Transit Manifest Pilot Program: 81 FR 24837 (April 27, 2016).

• Announcement of National Customs Automation Program (NCAP) Test Concerning the Submission through the Automated Commercial Environment (ACE) of Certain Import Data and Documents Required by the U.S. Fish and Wildlife Service: 81 FR 27149 (May 5, 2016).

• Notice Announcing the Automated Commercial Environment (ACE) as the Sole CBP-Authorized Electronic Data Interchange (EDI) System for Processing Certain Electronic Entry and Entry Summary Filings Accompanied by Food and Drug Administration (FDA) Data: 81 FR 30320 (May 16, 2016).

• Notice Announcing the Automated Commercial Environment (ACE) as the Sole CBP-Authorized Electronic Data Interchange (EDI) System for Processing Electronic Entry and Entry Summary Filings: 81 FR 32339 (May 23, 2016).

• Notice Announcing the Automated Commercial Environment (ACE) Protest Module as the Sole CBP-Authorized Method for Filing Electronic Protests: 81 FR 49685 (July 28, 2016).

Dated: August 2, 2016.
Brenda B. Smith,
Executive Assistant Commissioner, Office of Trade.

[FR Doc. 2016-18757 Filed 8-5-16; 8:45 am]

BILLING CODE P